FEDERAL COMMUNICATIONS COMMISSION

Notice of Public Information Collection(s) Being Review by the Federal Communications Commission, Comments Requested

November 8, 2007.

SUMMARY: The Federal Communications Commission, as part of its continuing effort to reduce paperwork burden, invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) Whether the proposed collection of information is necessary for the proper performance of the functions of the Commission, including whether the information shall ahve practical utility; (b) the accuracy of the Commission's burden estimate; (c) ways to enhance the quality, utility, and clarity of the information collected; and (d) ways to minimize the burden of the collection of information on the respondents, including the use of automated collection techniques or other forms of information technology.

DATES: Written comments should be submitted on or before January 14, 2008. If you anticipate that you will be submitting comments, but find it difficult to do so within the period of time allowed by this notice, you should advise the contact listed below as soon as possible.

ADDRESSES: You may submit all PRA comments by e-mail or U.S. mail. To submit your comments by e-mail, send them to PRA@fcc.gov. To submit your comments by U.S. mail, send them to Leslie F. Smith, Federal Communications Commission, Room 1-C216, 445 12th Street, SW., Washington, DC 20554.

FOR FURTHER INFORMATION CONTACT: For Additional information about the information collection(s), contact Leslie F. Smith via e-mail at PRA@fcc.gov or call (202) 418-0217.

SUPPLEMENTARY INFORMATION: OMB Control Number: 3060-0774.

Title: Universal Service Reporting, Disclosure, and Record Retention Requirements (47 CFR parts 36 and 54).

Form Number: N/A.

Type of Review: Revision of a currently approved collection.

Respondents: Business or other for-profit entities, not-for-profit institutions, and state, local, or tribal government.

Number of Respondents: 7,061,552 respondents; 7,621,931 responses.

Estimated Time Per Response: 0.084-1500 hours

Frequency of Response: On occasion, quarterly, annual, and five-year reporting requirements; recordkeeping requirement; and third party disclosure requirement.

Obligation to Respond: Required to obtain or retain benefits.

Total Annual Burden: 1,502,333 hours

Total Annual Cost: $0.00

Privacy Act Impact Assessment: No impacts.

Nature of Extent of Confidentiality: This collection does not address information of a confidential nature.

Needs and Uses: The Telecommunication Act of 1996 (1996 Act) directed the Commission to initiate a rulemaking to reform the system of universal service so that universal service is preserved and advanced as markets move toward competition. To fulfill that mandate, on March 8, 1996, the Commission adopted a Notice of proposed Rulemaking (NPRM) in CC Docket No. 96-45 to implement the congressional directives set out in section 254 of the Communications Act of 1934, as amended by the 1996 Act. Pursuant to section 254(a)(1), the NPRM also referred numerous issues related to universal service to a Federal-State Joint Board for recommended decision. On November 8, 1996, the Joint Board released a Recommended Decision in which it made recommendations to assist and counsel the Commission in the creation of an effective universal service support mechanism that would ensure that the goals of affordable, quality service and access to advanced services are met by means that enhance competition. On November 18, 1996, the Commission's Common Carrier Bureau released a Public Notice (DA 96-1891) seeking public comment on the issues addressed and recommendations made by the Joint Board in the Recommended Decision. In a Report and Order issued in CC Docket No. 96-45, released on May 8, 1997, and other proceedings, the Commission adopted rules that were designed to implement the universal service provisions of section 254. On August 29, 2007, the Commission released the Report and Order, 2007 Comprehensive Review of the Universal Service Fund Management, Administration and Oversight, WC Docket Nos. 05-195, 02-60, 03-109 and CC Docket Nos. 96-45, 02-6, 97-21, FCC 07-150. In this order, the Commission took several further steps to safeguard the Universal Service Fund from waste, fraud, and abuse, including imposing document retention rules on all universal service programs and program contributors.

Federal Communications Commission.
Marlene H. Dortch,
Secretary.

[FR Doc. 07-5699 Filed 11-14-07; 8:45 am]

BILLING CODE 6712-01-M